ENVIRONMENTAL PROTECTION AGENCY

40 CFR Part 52

[EPA-R09-OAR-2014-0172; FRL-9910-85-Region 9]

Revisions to the California State Implementation Plan; Ventura County Air Pollution Control District; Reasonably Available Control Technology for Ozone

AGENCY: Environmental Protection Agency (EPA).

ACTION: Final rule.

SUMMARY: The Environmental Protection Agency (EPA) is finalizing approval of revisions to the Ventura County Air Pollution Control District (VCAPCD) portion of the California State Implementation Plan (SIP). This action was proposed in the Federal Register on March 10, 2014 and concerns the District's reasonably available control technology (RACT) requirements under the 1997 8-hour ozone National Ambient Air Quality Standards (NAAQS). We are approving this document under the Clean Air Act (CAA or the Act).

DATES: This rule will be effective on June 16, 2014.

ADDRESSES: EPA has established docket number EPA-R09-OAR-2014-0172 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. Proposed Action

II. Public Comments and EPA Responses

III. EPA Action

IV. Statutory and Executive Order Reviews

I. Proposed Action.

On March 10, 2014 (79 FR 13266), EPA proposed to approve the following document into the California SIP.

Local agency | Document | Adopted | Submitted
VCAPCD | Reasonably Available Control Technology State Implementation Plan Revision (2009 RACT SIP Revision) as adopted September 15, 2009 (“2009 RACT SIP”) | 9/15/09 | 11/17/09

VCAPCD's submittal also included the following negative declarations which the District certified that it had no sources subject to the control techniques guidelines (CTG) documents.

CTG source category | CTG document title
Flat Wood Paneling Coatings | EPA-453/R06-004 Control Techniques Guidelines for Flat Wood Paneling Coatings.
Large Appliance Coatings | EPA-453/R-07-004 Control Techniques Guidelines for Large Appliance Coatings.
Paper, Film and Foil Coatings | EPA-453/R-07-003 Control Techniques Guidelines for Paper, Film, and Foil Coatings.
Automobile and Light-Duty Truck Assembly Coatings | EPA-452/R-08-006 Control Techniques Guidelines for Automobile and Light-Duty Truck Assembly Coatings.
Miscellaneous Industrial Adhesives | EPA 453/R-08-005 Control Techniques Guidelines for Miscellaneous Industrial Adhesives.
Flexible Package Printing | EPA 453/R-06-003 Control Techniques Guidelines for Flexible Package Printing.
Metal Furniture Coatings | EPA 453/R-07-005 Control Techniques Guidelines for Metal Furniture Coatings.
Fiberglass Boat Manufacturing Materials | EPA 453/R-08-004 Control Techniques Guidelines for Fiberglass Boat Manufacturing Materials.

We proposed to approve VCAPCD's 2009 RACT SIP including the above negative declarations because we determined that it complied with the relevant CAA requirements. Our proposed action contains more information on the submitted document and our evaluation.

II. Public Comments and EPA Responses

EPA's proposed action provided a 30-day public comment period. During this period, we received no comments.

III. EPA Action

No comments were submitted. Therefore, as authorized in section 110(k)(3) of the Act, EPA is fully approving this document, including the negative declarations into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 14, 2014. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Dated: April 25, 2014.
Jared Blumenfeld,
Regional Administrator, Region IX.

Part 52, Chapter I, Title 40 of the Code of Federal Regulations is amended as follows:

PART 52—APPROVAL AND PROMULGATION OF IMPLEMENTATION PLANS.

1. The authority citation for Part 52 continues to read as follows:

Authority: 42 U.S.C. 7401 et seq.

Subpart F—California

2. Section 52.220 is amended by adding paragraph (c)(437)to read as follows:

§ 52.220 Identification of plan.

* * * * *

(c) * * *

(437) New and amended regulations for the following APCD was submitted on November 17, 2009 by the Governor's designee.

(i) [Reserved]

(ii) Additional Material

(A) Ventura County Air Pollution Control District.

(1) Reasonably Available Control Technology State Implementation Plan Revision (2009 RACT SIP Revision) as adopted on September 15, 2009 (“2009 RACT SIP”).

3. Section 52.222 is amended by adding paragraph (a)(10)(i) to read as follows:

§ 52.222 Negative declarations.

* * * * *

(a) * * *

(10) Ventura County Air Pollution Control District.

(i) EPA-453/R06-004 Control Techniques Guidelines for Flat Wood Paneling Coatings; EPA-453/R-07-004 Control Techniques Guidelines for Large Appliance Coatings; EPA-453/R-07-003 Control Techniques Guidelines for Paper, Film, and Foil Coatings; EPA-452/R-08-006 Control Techniques Guidelines for Automobile and Light-Duty Truck Assembly Coatings; EPA 453/R-08-005 Control Techniques Guidelines for Miscellaneous Industrial Adhesives; EPA 453/R-06-003 Control Techniques Guidelines for Flexible Package Printing; EPA 453/R-07-005 Control Techniques Guidelines for Metal Furniture Coatings; and EPA 453/R-08-004 Control Techniques Guidelines for Fiberglass Boat Manufacturing Materials were submitted on November 17, 2009 and adopted on September 15, 2009.

* * * * *

[FR Doc. 2014-11087 Filed 5-14-14; 8:45 am]

BILLING CODE 6560-50-P